DEPARTMENT OF HOUSING AND URBAN DEVELOPMENT

[Docket No. FR-4736-N-06]

Notice of Proposed Information Collection for Public Comment for Correcting and Challenging Date for the Indian Housing Block Grant Formula Allocation

AGENCY: Office of the Assistant Secretary for Public and Indian Housing, HUD.

ACTION: Notice.

SUMMARY: The proposed information collection requirement described below will be submitted to the Office of Management and Budget (OMB) for review, as required by the Paperwork Reduction Act. The department is soliciting public comments on the subject proposal.

DATES: Comment Due Date: August 27, 2002.

ADDRESSES: Interested persons are invited to submit comments regarding this proposal. Comments should refer to the proposal by name and/or OMB Control Number and should be sent to: Mildred M. Hamman, Reports Liaison Officer, Public and Indian Housing, The Department of Housing & Urban Development, 451—7th Street, SW., Room 8226, Washington, DC 20410-6000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also lists the Following Information:

Title of Proposal: Correcting and Challenging Data for the Indian Housing Block Grant Formula Allocation.

OMB Control Number: 2577-0218.

Description of the Need for the Information and Proposed Use: The Native American Housing Assistance and Self-Determination Act of 1996 (NAHASDA or the Act) mandated that funding for Native American housing programs be allocated through use of a block grant formula. The block grant formula, as developed by the NAHASDA negotiated rulemaking committee, uses data from multiple sources, including the 1990 and soon 2000 U.S. Census, HUD records, and the Indian Health Services. In developing the formula, the negotiated rulemaking committee recognized that the data available had significant limitations and may be inaccurate for some tribes. The group agreed to include the option that allows tribes to challenge the data. This information request is the guidance to tribes on how they can challenge, or simply make corrections, to the data so that it is fair and equitable for all tribes receiving funds through the formula.

Agency form numbers: None.

Members of the Affected Public: 579 Native American and Alaskan Native Tribes participating in the Indian Housing Block Grant Program may submit corrections or challenge the data.

Estimation of the Total Number of Hours Needed to Prepare the Information Collection including the Number of Respondents, Frequency of response, and hours of response: The Tribally Designated Housing Entities (TDHEs) are able to submit corrections and challenges to the data at any time. However, all corrections to have impact on the next fiscal year are due by September 15th of the current fiscal year and challenges to have impact on the next fiscal year are due by June 15th of the current fiscal year. The number of hours needed to prepare the information collection, frequency of response, and hours of response will depend on each tribe's specific correction or challenge. The average amount of time to make corrections will likely be 30 minutes for all 579 tribes. We anticipate only 15 tribes a year challenging the data at an average burden of 150 hours per challenge. In total, the department expects this request will have a total annual reporting burden of 2,540 hours.

Status of the Proposed Information Collection: Revision.

Authority: Section 3506 of the Paperwork Reduction Act of 1995, 44 U.S.C. Chapter 35, as amended.

Dated: June 25, 2002.
Paula O. Blunt,
General Deputy Assistant Secretary for Public and Indian Housing.

BILLING CODE 4210-33-M

[FR Doc. 02-16401 Filed 6-27-02; 8:45 am]

BILLING CODE 4210-33-C